DEPARTMENT OF TRANSPORTATION

Federal Aviation Administration

14 CFR Part 39

[Docket No. 2000-NM-382-AD; Amendment 39-12777; AD 2002-12-05]

RIN 2120-AA64

Airworthiness Directives; Boeing Model 767-200 Series Airplanes

AGENCY: Federal Aviation Administration, DOT.

ACTION: Final rule.

SUMMARY: This amendment adopts a new airworthiness directive (AD), applicable to certain Boeing Model 767-200 series airplanes, that requires repetitive inspections of the side panels of the nose wheel well for broken rivets and replacement of any broken rivets with bolts. This amendment also requires follow-on inspections of adjacent areas for cracks or broken rivets, whenever two or more adjacent broken rivets are found; repair of any cracks; and replacement of any broken rivets with bolts. Finally, this amendment provides for the optional replacement of all rivets in the affected areas with bolts, which terminates the repetitive inspections. The actions specified by this AD are intended to detect and correct broken rivets in the nose wheel well side panels and top panel, which could impair the function of the nose landing gear and cause fatigue cracks in the side panel and top panel webs of the nose wheel well, which could result in rapid cabin depressurization during flight. This action is intended to address the identified unsafe condition.

DATES: Effective July 18, 2002.

The incorporation by reference of certain publications listed in the regulations is approved by the Director of the Federal Register as of July 18, 2002.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 227-2772; fax (425) 227-1181.

SUPPLEMENTARY INFORMATION: A proposal to amend part 39 of the Federal Aviation Regulations (14 CFR part 39) to include an airworthiness directive (AD) that is applicable to certain Boeing Model 767-200 series airplanes was published in the Federal Register on December 26, 2001 (66 FR 66360). That action proposed to require repetitive inspections of the side panels of the nose wheel well for broken rivets and replacement of any broken rivets with bolts. That action also proposed to require follow-on inspections of adjacent areas for cracks or broken rivets, whenever two or more adjacent broken rivets are found; repair of any cracks; and replacement of any broken rivets with bolts. Finally, that action proposed to provide for the optional replacement of all rivets in the affected area with bolts, which would terminate the repetitive inspections.

Request for Comments

Interested persons have been afforded an opportunity to participate in the making of this amendment. Due consideration has been given to the comments received.

Proposed Rule Is Acceptable

One airline operator states that the proposed rule is acceptable.

Revision of Cost Impact

One commenter states that the cost to access the nose wheel well side panels and perform the basic inspection is 6 work hours, and that, for certain “on-condition” inspections that may be necessary, the additional cost is 16 work hours. The commenter also states that the cost of the optional terminating action (replacement of all rivets in the affected areas with bolts) is 160 work hours and $900 in materials, per airplane. The FAA infers that the commenter is requesting that we revise the cost impact information accordingly.

We agree, in part, with the commenter's requests. We agree that information concerning the cost of performing the optional terminating action should be included in the AD, and have revised the AD to specify an estimated cost for work hours should an operator accomplish the replacement of all rivets with bolts.

However, we do not agree that costs for access and certain on-condition actions should be specified in the AD. The cost impact information in the AD is limited to the cost of actions actually required by the rule. We do not consider the costs of on-condition actions, such as performing detailed inspections if two or more adjacent broken rivets are found. Such “on-condition” inspections and corrective actions, if necessary, would be required to be accomplished—regardless of AD direction—in order to correct an unsafe condition identified in an airplane and to ensure operation of that airplane in an airworthy condition, as required by the Federal Aviation Regulations. It is unnecessary to revise the AD to add additional work hours to the cost impact information.

We do not agree that the estimated incidental costs, such as the time required to gain access and close up, planning time, or time necessitated by other administrative actions, should be included in the AD. As these type of incidental costs may vary widely between operators, it would be impossible to provide a realistic and meaningful estimate of costs. Further, at the time the appropriate service information specified in this AD (Revision 1 of Boeing Service Bulletin 767-53A0090, dated September 14, 2000) was issued, no cost of parts information was available. Further, in this case, we consider that replacing the rivets with bolts may be considered as a negligible cost since those parts are common, “off-the-shelf” items. Therefore, no specific allowance for that cost was estimated in this AD, and no change to the AD is necessary in this regard.

Change Reference to “Detailed Visual Inspection”

We have changed all references to a “detailed visual inspection” in the NPRM to “detailed inspection” in this AD.

Conclusion

After careful review of the available data, including the comments noted above, the FAA has determined that air safety and the public interest require the adoption of the rule with the changes previously described. The FAA has determined that these changes will neither increase the economic burden on any operator nor increase the scope of the AD.

Cost Impact

There are approximately 62 Model 767-200 series airplanes of the affected design in the worldwide fleet. The FAA estimates that 46 airplanes of U.S. registry will be affected by this AD, that it will take approximately 2 work hours per airplane to accomplish the required actions, and that the average labor rate is $60 per work hour. Based on these figures, the cost impact of the AD on U.S. operators is estimated to be $5,520, or $120 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Should an operator elect to accomplish the optional terminating action that is provided by this AD action, it will take approximately 150 work hours to accomplish it, at an average labor rate of $60 per work hour. Based on these figures, the cost impact of the optional terminating action would be $9,000 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-12-05 Boeing: Amendment 39-12777. Docket 2000-NM-382-AD.

Applicability: Model 767 series airplanes, line numbers 1 through 62; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct broken rivets in the nose wheel well side panels and top panel, which could impair the function of the nose landing gear and cause fatigue cracks in the nose wheel well side panel and top panel webs, which could result in rapid cabin depressurization during flight, accomplish the following:

Initial and Repetitive Inspections

(a) Within 18 months or 3,000 flight cycles after the effective date of this AD, whichever occurs first: Perform a detailed inspection of the nose wheel well side panels for broken rivets, in accordance with Boeing Service Bulletin 767-53A0090, Revision 1, dated September 14, 2000.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: Inspections, replacement, and repairs performed prior to the effective date of this AD in accordance with Boeing Service Bulletin 767-53A0090, dated August 3, 2000, are considered acceptable for compliance with the applicable actions specified in this amendment.

(1) If no broken rivets are detected: No further action is required as part of the initial inspection. Repeat the inspection at intervals not to exceed 18 months or 3,000 flight cycles, whichever occurs first.

(2) If broken rivets are detected, but they do not include two or more adjacent rivets: Prior to further flight, replace the broken rivets with bolts in accordance with the service bulletin. Repeat the inspection at intervals not to exceed 18 months or 3,000 flight cycles, whichever occurs first.

(3) If two or more adjacent broken rivets are detected: Prior to further flight, perform a secondary inspection as specified in paragraph (c) of this AD.

Optional Terminating Action

(b) Replacement of all the rivets with bolts in accordance with Figure 5 of Boeing Service Bulletin 767-53A0090, Revision 1, dated September 14, 2000, terminates the repetitive inspection required by paragraph (a) of this AD.

Secondary Inspections

(c) If two or more adjacent broken rivets are found during any inspection required by paragraph (a) of this AD: Prior to further flight, perform a detailed inspection of the side panels and the top panel of the nose wheel well for cracks or broken rivets, in accordance with Boeing Service Bulletin 767-53A0090, Revision 1, dated September 14, 2000.

(1) If no cracks or additional broken rivets are found: Prior to further flight replace all of the rivets with bolts in accordance with Figure 5 of the service bulletin. This terminates the repetitive inspections required by paragraph (a) of this AD.

(2) If any cracks or additional broken rivets are found: Prior to further flight, repair the cracks and replace all of the rivets, per a method approved by the Manager, Seattle Aircraft Certification Office, or per data meeting the type certification basis of the airplane approved by a Boeing Company Designated Engineering Representative who has been authorized by the Manager, Seattle ACO, to make such findings. For a repair method to be approved, the approval must specifically reference this AD. This terminates the repetitive inspections required by paragraph (a) of this AD.

Alternative Methods of Compliance

(d) An alternative method of compliance or adjustment of the compliance time that provides an acceptable level of safety may be used if approved by the Manager, Seattle ACO. Operators shall submit their requests through an appropriate FAA Principal Maintenance Inspector, who may add comments and then send it to the Manager, Seattle ACO.

Note 4: Information concerning the existence of approved alternative methods of compliance with this AD, if any, may be obtained from the Seattle ACO.

Special Flight Permits

(e) Special flight permits may be issued in accordance with sections 21.197 and 21.199 of the Federal Aviation Regulations (14 CFR 21.197 and 21.199) to operate the airplane to a location where the requirements of this AD can be accomplished.

Incorporation by Reference

(f) Except as provided by paragraph (c)(2) of this AD, the actions required by paragraphs (a) and (c) of this AD shall be done in accordance with Boeing Service Bulletin 767-53A0090, Revision 1, dated September 14, 2000. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(g) This amendment becomes effective on July 18, 2002.

Issued in Renton, Washington, on June 4, 2002.
Ali Bahrami,
Acting Manager, Transport Airplane Directorate, Aircraft Certification Service.

[FR Doc. 02-14584 Filed 6-12-02; 8:45 am]

BILLING CODE 4910-13-P